DEPARTMENT OF ENERGY

Federal Energy Regulatory Commission

[Docket No. IC16-8-000]

Commission Information Collection Activities (FERC-539); Comment Request

July 25, 2016.

Republication

Editorial Note: Notice document 2016-17896 was originally published on page 49975 in the issue of Friday, July 29, 2016. In that publication the document was incomplete. The corrected document is republished in its entirety.

AGENCY: Federal Energy Regulatory Commission, Department of Energy.

ACTION: Comment request.

SUMMARY: In compliance with the requirements of the Paperwork Reduction Act of 1995, 44 U.S.C. 3507(a)(1)(D), the Federal Energy Regulatory Commission (Commission or FERC) is submitting its information collection FERC-539 (Gas Pipeline Certificates: Import & Export Related Applications) to the Office of Management and Budget (OMB) for review of the information collection requirements. Any interested person may file comments directly with OMB and should address a copy of those comments to the Commission as explained below. The Commission previously issued a Notice in the Federal Register (81 FR 21859, 4/13/2016) requesting public comments. The Commission received no comments on the FERC-539 and is making this notation in its submittal to OMB.

DATES: Comments on the collection of information are due by August 29, 2016.

ADDRESSES: Comments filed with OMB, identified by the OMB Control No. 1902-0062, should be sent via email to the Office of Information and Regulatory Affairs: oira_submission@omb.gov. Attention: Federal Energy Regulatory Commission Desk Officer.

A copy of the comments should also be sent to the Commission, in Docket No. IC16-8-000, by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION:

Title: FERC-539, Gas Pipeline Certificates: Import & Export Related Applications.

OMB Control No.: 1902-0062.

Type of Request: Three-year extension of the FERC-539 information collection requirements with no changes to the reporting requirements.

Abstract: Section 3 of the Natural Gas Act (NGA) ¹ provides, in part, that “. . . no person shall export any natural gas from the United States to a foreign country or import any natural gas from a foreign country without first having secured an order from the Commission authorizing it to do so.” The 1992 amendments to Section 3 of the NGA concern importation or exportation from/to a nation which has a free trade agreement with the United States and requires that such importation or exportation: (1) Shall be deemed to be a “first sale” (i.e. not a sale for a resale) and (2) shall be deemed to be consistent with the public interest. Applications for such importation or exportation should be granted without modification or delay.

¹ 15 U.S.C. 717-717w.

The regulatory functions of Section 3 are shared by the Commission and the Secretary of Energy, Department of Energy (DOE). The Commission has the authority to approve or disapprove the construction and operation of particular facilities, the site at which such facilities shall be located, and, with respect to natural gas that involves the construction of new domestic facilities, the place of entry for imports or exit for exports. DOE approves the importation or exportation of the natural gas commodity.² Additionally, pursuant to the DOE Delegation Order and Executive Order Nos. 10485 and 12038, the Commission has the authority to issue Presidential Permits for natural gas facilities which cross an international border of the United States. Persons seeking Section 3 authorizations or Presidential Permits from the Commission file applications for such requests pursuant to Part 153 of the Commission's Regulations.³

² Secretary of DOE's current delegation of authority to the Commission relating to import and export facilities was renewed by the Secretary's Delegation Order No. 00-004.00A, effective May 16, 2006.

³ Part 153, Subpart B and Subpart C.

Type of Respondents: The respondents include all jurisdictional natural gas companies seeking authorization from the Commission to import or export natural gas.

Estimate of Annual Burden: ⁴ The Commission estimates the annual public reporting burden for the information collection as:

⁴ The Commission defines burden as the total time, effort, or financial resources expended by persons to generate, maintain, retain, or disclose or provide information to or for a Federal agency. For further explanation of what is included in the information collection burden, reference 5 Code of Federal Regulations 1320.3.

⁵ The estimates for cost per response are derived using the 2015 FERC average salary plus benefits of $149,489/year (or $72.00/hour). Commission staff finds that the work done for this information collection is typically done by wage categories similar to those at FERC.

FERC-539: Gas Pipeline Certificates: Import & Export Related Applications
Number of respondents | Annual number of responses per respondent | Total number of responses | Average burden & cost per response ⁵ | Total annual burden hours & total annual cost | Cost per respondent ($)
(1) | (2) | (1)*(2)=(3) | (4) | (3)*(4)=(5) | (5)÷(1)
12 | 2 | 24 | 12 hrs.; $864 | 288 hrs.; $20,736 | $1,728

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Nathaniel J. Davis, Sr.,
Deputy Secretary.

[FR Doc. R1-2016-17896 Filed 8-2-16; 8:45 am]

BILLING CODE 1505-01-D